DEPARTMENT OF HEALTH AND HUMAN SERVICES

Administration on Aging

Fiscal Year 2001 Grant Awards Made

AGENCY: Administration on Aging, HHS.

ACTION: Notice of non-competitive grant awards made in response to Omnibus Consolidated and Emergency Supplemental Appropriations For Fiscal Year 2001 and pursuant to Title IV of the Older Americans Act (42 U.S.C. 3001 et seq.).

SUMMARY: The Administration on Aging announces that it has made thirty-four (34) new non-competitive Title IV awards for FY 2001. The awards are as follows: Access Community Health Network, Inc., (IL) $243,058, September 1, 1999 to August 31, 2002; The Visiting Nurse Association Home Health, Inc., (WI), $88,084, September 1, 2001 to 8/31/2002; Aging in New York, Inc., (NY) $3,637,095 September 30, 2001 to September 29, 2002; St. Louis County Government, (MO), $418,950, September 30, 2001 to September 28, 2003; County of Ocean New Jersey, (NJ) $273,750, September 30, 2001 to September 30, 2003; San Luis Obispo County Medical Society (CA) $83,000, September 30, 2001 to March 29, 2003;

University of Arkansas for Medical Sciences, (AR) $888,235, September 1 to September 30, 2002; Vermont Department of Aging and Disabilities (VT), $394,800, September 30 to February 28, 2003; Staten Island Community Services Friendship Clubs, Inc. (NY) $1,974, September 30, 2001 to September 29, 2002; Landmark Medical Center (RI), $922,845, September 30, 2001 to September 29, 2002; Ivy Tech State College (IN), $713,601, September 30, 2001 to September 29, 2002; Southwest General Health Center (OH), $98,700, August 31, 2001 to August 31, 2002; City of Compton, (CA) $419,475, September 30, 2001 to September 29, 2002; Burlington County Office on Aging (NJ) $364,203, September 30, 2001 to September 29, 2002; Progreso Latino, Inc (RI), $96,700, September 30 to September 29, 2002; The University of Akron College of Nursing (OH) $503,370, September 30 to March 31, 2003; Camden County Senior Tech

Initiative (NJ), $181,608, September 30, 2001 to February 28, 2003; Lifespan of Greater Rochester (NY), $63,168, September 30, 2001 to September 29, 2002; Mecklenburg County Department of Social Services (NC) $909,027, September 30, 2001 to February 28, 2003; Walk the Walk, Inc., (NY) $167,790, September 1, 2001 to August 31, 2002; East Providence Senior Centers, (RI) $98,700, September 30, 2001 to March 31, 2003; Brandeis University (MA) $197,400, September 30, 2001 to September 29, 2002; Northwest Parkinson's Foundation (WA) $339,000, August 15, 2001 to August 14, 2002; Champlain Senior Center Inc. (VT), $98,700, August 1, 2001 to July 31, 2002; Deaconess

Billings Clinic Foundation (MT) $1,381,800; September 30, 2001 to February 28, 2003; Metropolitan Family Services (IL), 0, September 30, 2001 to 2003; Florida International University, (FL) $682,017, September 1, 2001 to August 31, 2002; WV Research Corporation on Behalf of West Virginia University, (WV), $987,000, September 1, 2001 to January 31, 2003; Texas Tech University Health Science Center, (TX) $948,507, August 1, 2001 to August 31, 2002; Albert Einstein Medical Center, (PA) $493,500, September 30, 2001 to September 29, 2002; Bethlehem Evangelical Lutheran Church (NY), $1,974, August 31, 2001 to August 30, 2002; Florida Atlantic University (FL), $421,449, August 15, 2001 to August 14, 2002; NAHB Research Center, Inc. $461,883, March 1, 2001 to March 31, 2002; St. Petersburg College (FL), $74,482, August 31, 2001 to August 31, 2003.

Dated: November 1, 2001.
Josefina G. Carbonell,
Assistant Secretary for Aging.

[FR Doc. 01-28090 Filed 11-7-01; 8:45 am]

BILLING CODE 4154-01-P